FEDERAL COMMUNICATIONS COMMISSION

Public Information Collections Approved by Office of Management and Budget

March 29, 2002.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0848.

Expiration Date: 03/31/2005.

Title: Deployment of Wireline Services Offering Advanced Telecommunications Capability, CC Docket No. 98-147.

Form No.: N/A.

Respondents: Business or other for-profit.

Estimated Annual Burden: 1750 respondents; 94.63 per response (avg.); 165,600 total annual burden hours (for all collections under this control number).

Estimated Annual Reporting and Recordkeeping Cost Burden: $0.

Frequency of Response: On occasion; Annually; Recordkeeping; Third Party Disclosure.

Description: The following collections of information implement Section 251 of the Communications Act of 1934, as amended. In CC Docket Nos. 98-147 and 96-98, the Commission sought to further Congress's goal of promoting innovation and investment by all participating in the telecommunications marketplace, in order to stimulate competition for all services, including advanced services. In furtherance of this goal, the Commission imposes certain collections of information on incumbent local exchange carriers (LECs) in order to ensure compliance with the incumbent LEC's collocation obligations and to assist incumbent LECs in protecting network integrity.

a. Processing of Collocation Applications. Where neither the state nor the parties to an interconnection agreement set a different deadline, an incumbent LEC must tell the requesting telecommunications carrier whether a collocation application has been accepted or denied within ten calendar days after receiving the application. If the incumbent LEC deems that application unacceptable, it must advise the competitive LEC of any deficiencies within this ten calendar day period. The incumbent LEC must provide sufficient detail so that the requesting carrier has a reasonable opportunity to cure each deficiency. The competitive LEC must cure any deficiencies in its collocation application and resubmit the application within 10 calendar days after being advised of them. The requesting carrier must inform the ILEC that physical collocation should proceed within seven calendar days after receiving the ILEC's price quotation. See 47 CFR 51.323(l). (No. of respondents: 1400; hours per response: 40 hours; total annual burden: 56,000 hours).

b. Amendment of Collocation Agreements, Collocation Tariffs, and Collocation-Related Provisions in Statements of Generally Available Terms. An incumbent LEC must offer to provide all forms of physical collocation (i.e., caged, cageless, shared, and adjacent) in accordance with the Commission's application processing and provisioning interval requirements, except to the extent a state sets its own application processing and collocation interval deadlines. To make an offer to provide physical collocation, an incumbent LEC must propose in response to a request from a competitive LEC an interconnection agreement or an amendment to an interconnection agreement including all necessary rates, terms, and conditions. The incumbent LEC also must file with the state commission proposed amendments to any tariff or statement of generally available terms and conditions that does not comply with the national standards for processing collocation applications and provisioning collocation arrangements. These amendments must provide for application processing intervals and physical collocation intervals no longer than the national standards except to the extent a state sets its own standard. (No. of respondents: 1400; hours per response: 44 hours; total annual burden: 61,600 hours).

c. State Commission Approval. If collocation becomes available in a previously exhausted incumbent LEC structure, the incumbent LEC must obtain the state commission's express approval before requiring a competitive LEC to move, or prohibiting a competitive incumbent LEC from moving, a collocation arrangement into that structure, unless the incumbent LEC and the collocation have an interconnection agreement that expressly provides for a different outcome. Safe-time work practices that the incumbent may waive to keep from competitively disadvantaging its or an affiliates operations or that prevents a collocation, from restoring service in the event of an outage are inherently suspect and must receive explicit state commission approval. (No. of respondents: 1400; hours per response: 2 hours; total annual burden: 2800 hours).

d. Showing Regarding Loop Condition. Incumbent LECs who refuse a competitive carrier's request to condition a loop must make an affirmative showing to the relevant state commission that conditioning the specific loop in question will significantly degrade voiceband services. The incumbent LEC must also show that there is no adjacent or alternative loop available that can be conditioned or to which the customer's service can be moved to enable line sharing. See 47 CFR 51.319(h)(5). (No. of respondents: 1400; hours per response: 2 hours; total annual burden: 2800 hours).

e. Request for Alternative Physical Access. Incumbent LECs must provide requesting carriers with access to the loop facility for testing, maintenance, and repair. At a minimum, incumbent must provide requesting carriers with physical loop test access points to requesting carriers at the splitter, through a cross-connection to the competitor's collocation space, or through a standard interface. An incumbent seeking to utilize an alternative physical access methodology may request approval to do so from the relevant state commission, but must show that the proposed alternative method is reasonable, nondiscriminatory, and will not disadvantage a requesting carrier's ability to perform loop or service testing, maintenance or repair. See 47 CFR 51.319(h)(7). (No. of respondents: 1400; hours per response: .50 hours; total annual burden: 700 hours).

f. Showing of Significant Degradation. An incumbent LEC may not deny a carrier's request to deploy a technology that is presumed acceptable for deployment unless the incumbent LEC demonstrates to the relevant state commission that deployment of the particular technology will significantly degrade the performance of other advanced services or traditional voiceband services. Where a carrier seeks to establish that deployment of a technology falls within the presumption of acceptability under 47 CFR 51.230(a)(3), the burden is on the requesting carrier to demonstrate to the state commission that its proposed deployment meets the threshold for a presumption of acceptability and will not, in fact, significantly degrade the performance of other advanced services or traditional voice band services. Upon a successful demonstration by the requesting carrier before a particular state commission, the deployed technology shall be presumed acceptable for deployment in other areas. See 47 CFR 51.230(b) and (c). (No. of respondents: 1400; hours per response: 2 hours; total annual burden: 2800 hours).

g. Information on Type of Technology. A requesting carrier that seeks access to a loop or a high frequency portion of a loop to provide advanced services must provide to the incumbent LEC information on the type of technology that the requesting carrier seeks to deploy. Where the requesting carrier asserts that the technology it seeks to deploy fits within a generic power spectral density mask, it also must provide Spectrum Class information for the technology. Where a requesting carrier relies on a calculation-based approach to support deployment of a particular technology, it must provide the incumbent LEC with information on the speed and power at which the signal will be transmitted. The requesting carrier also must provide the information required above when notifying the incumbent LEC of any propose change in advanced services technology that the carrier uses on the loop. See 47 CFR 51.231(b)-(c). (No. of respondents: 1400; hours per response: 1.5 hours; total annual burden: 2100 hours).

h. Petition. Any party seeking designation of a technology as a known disturber should file a petition for declaratory ruling. See 47 CFR 51.232(b). (No. of respondents: 100; hours per response: 1 hour; total annual burden: 100 hours).

i. Showing of Network Harm. Where a deployed advanced service is significantly degrading other services and the degradation remains unresolved by the deploying carrier(s) after a reasonable opportunity to correct the problem, the carrier whose services are being degraded must establish before the relevant state commission that a particular technology deployment is causing the significant degradation. Any claims of network harm presented to the deploying carrier(s) or, if subsequently necessary, the relevant state commission, must be supported with specific and verifiable information. See 47 CFR 51.233 (b) and (c). (No. of respondents: 100; hours per response: 2 hours; total annual burden: 200 hours).

j. List of Equipment, Affidavit—Whenever an incumbent LEC objects to collocation of equipment by a requesting telecommunications carrier for the purposes within the scope of section 251(c)(6) of the Act, the incumbent LEC shall prove to the state commission that the equipment is eligible for collocation. An incumbent LEC that denies collocation of a competitor's equipment, citing safety standards, must provide to the competitive LEC within five business days a list of all equipment that the incumbent LEC locates within the premises in question, together with an affidavit attesting that all of that equipment meets or exceeds the safety standard that the incumbent LEC contends the competitor's equipment fails to meet. The Commission requires that this affidavit set forth in detail: the exact safety requirement that the requesting carrier's equipment does not satisfy; the incumbent LEC's basis for concluding that the requesting carrier's equipment does not meet this safety requirement; and the incumbent LEC's basis for concluding why collocation of equipment not meeting this safety requirement would compromise network safety. See 47 CFR 51.323(b). (No. of respondents: 1400; hours per response: 2 hours; total annual burden: 2800 hours).

k. Space Limitation Documentation—An incumbent LEC shall submit to the state commission, subject to any protective order as the state commission may deem necessary, detailed floor plans or diagrams of any premises where the incumbent LEC claims that physical collocation is not practical because of space limitations. An incumbent LEC that contends space for physical collocation is not available in an incumbent LEC premises must also allow the requesting carrier to tour the entire premises in question, not just the room in which space was denied, without charge, within ten days of the receipt of the incumbent LEC's denial of space. The Commission requires that each incumbent LEC provides the state commission with all information necessary for the state commission to evaluate the reasonableness of the incumbent LEC's and its affiliates' reservations of space for future growth. This information shall include any information the state commission may require to implement its specific space reservation policies, including which space, if any, the incumbent or any of its affiliates have reserved for future use. The incumbent shall also provide the state commission with a detailed description of the specific future uses for which the space has been reserved. An incumbent LEC shall permit any requesting telecommunications carrier to inspect any floor plans or diagrams that the incumbent LEC provides a state commission, subject to any nondisclosure protections the state commission deems appropriate. See 47 CFR 51.321(f). (No. of respondents: 100; hours per response: 26 hours; total annual burden; 26,000 hours).

l. Report of Available Collocation Space—Upon request, an incumbent LEC must submit to the requesting carrier within ten days of the submission of the request a report indicating the incumbent LEC's available collocation space in a particular LEC premises. This report must specify the amount of collocation space available at each requested premises, the number of collocators, and any modifications in the use of the space since the last report. The incumbent LEC must maintain a publicly available document, posted for viewing on the Internet, indicating all premises that are full, and must update such a document within ten days of the date at which a premises runs out of physical collocation space. See 47 CFR 51.321(h). ILEC must provide this report within ten calendar days, as opposed to ten business days. The Commission requires that this report describe in detail the space that is available for collocation in the particular premises. This description requirement should enable a carrier requesting collocation to request the space that best fits its operational needs. See 47 CFR 51.321(h). (No. of respondents: 1400; hours per response: 2 hours; total annual burden: 2800 hours).

m. Information on Security Training—An incumbent LEC must provide information to competitive LECs on the specific type of security training a competitive LEC's employees must complete in order for the incumbent LEC to maintain reasonable security measures for its equipment and networks. See 47 CFR 51.323(i)(3). (No. of respondents: 1400; hours per response: .50 hours; total annual burden: 700 hours).

n. Access to Spectrum Management Procedures and Policies—An incumbent LEC must provide competitive LECs with nondiscriminatory access to the incumbent LEC's spectrum management procedures and policies. See 47 CFR 51.231(a). (No. of respondents: 1400; hours per response: .50 hours; total annual burden: 700 hours).

o. Rejection and Loop Information—An incumbent LEC must disclose to requesting carriers information with respect to the rejection of the requesting carrier's provision of advanced services, together with the specific reason for the rejection. An incumbent LEC must also disclose to requesting carriers information with respect to the number of loops using advanced services technology within the binder and type of technology deployed on those loops. See 47 CFR 51.231(a). (No. of respondents: 1400; hours per response: 1 hour; total annual burden: 1400 hours).

p. Notification of Performance Degradation—If a carrier claims a service is significantly degrading the performance of other advanced services or traditional voice band services, then that carrier must notify the causing carrier and allow that carrier a reasonable opportunity to correct the problem. Any claims of network harm must be supported with specific and verifiable supporting information. See 47 CFR 51.233. (No. of respondents: 1400; hours per response: .50 hours; total annual burden: 700 hours).

q. Certification of Interstate Traffic—The Commission requires that an incumbent LEC provision cross-connects between collocated carriers upon reasonable request. A collocated carrier may request such provisioning pursuant to either section 201 or 251 of the Communications Act. An incumbent LEC, however, is not required to provide a connection between the equipment in the collocated spaces of two or more telecommunications carriers if the connection is requested pursuant to section 201 of the Act, unless the requesting carrier submits to the incumbent LEC a certification that more than 10 percent of the amount of traffic to be transmitted through the connection will be interstate. The certification requirement recognizes that the Commission's jurisdiction under section 201 is subject to certain limits. Because the Commission's jurisdiction under section 251 is not similarly limited, no such certification is required for a request for a cross-connect under section 251 of the Act. See 47 CFR 51.323(h). (No. of respondents: 350; hours per response: 4 hours; total annual burden: 1400 hours). All of the collections are used to ensure that incumbent LECs and collocation carriers provide for collocation and obtain cross-connects in a manner consistent with sections 201 and 251 of the Communications Act of 1934, as amended. Obligation to respond: Mandatory.

OMB Control No.: 3060-0395.

Expiration Date: 09/30/2002.

Title: The ARMIS USOA Report (ARMIS Report 43-02); The ARMIS Service Quality Report (ARMIS Report 43-05; The ARMIS Infrastructure Report (ARMIS Report 43-07).

Form No.: FCC Reports 43-02, 43-05, and 43-07.

Respondents: Business or other for-profit.

Estimated Annual Burden: 50 respondents; 587.3 hour per response (avg.); 29,366 total annual burden hours (for all collections under this control number).

Estimated Annual Reporting and Recordkeeping Cost Burden: $0.

Frequency of Response: Annually.

Description: Section 220 of the Communications Act of 1934, as amended, 47 U.S.C. 220, allows the Commission, at its discretion, to prescribe the forms of any and all accounts, records and memoranda to be kept by carriers subject to this Act, including the accounts, records and memoranda of the movement of traffic, as well as the receipts and expenditures of moneys. Sections 219(b) of the Communications Act of 1934, as amended, 47 U.S.C. 219(b), authorizes the Commission by general or special orders to require any carrier subject to this Act to file monthly reports of earnings and expenses and to file periodical and/or special reports concerning any matters with respect to which the Commission is authorized or required by law to act. Section 43.21 of the Commission's rules details that requirement. ARMIS was implemented to facilitate the timely and efficient analysis of revenue requirements, rates of return and price caps; to provide an improved basis for audits and other oversight functions; and to enhance the Commission's ability to quantify the effects of alternative policy. Section 11 of the Communications Act of 1934, as amended, 47 U.S.C. 161, requires the Commission, in every even-numbered year beginning in 1998, to review its regulations applicable to providers of telecommunications services to determine whether the regulations are no longer in the public interest due to meaningful economic competition between providers of such services and whether such regulations should be repealed or modified. Section 11 further instructs the Commission to repeal or modify any regulation it determines to be no longer in the public interest.

FCC Report 43-02—The ARMIS 43-02 Report contains company-wide data for each account specified in the Uniform System of Accounts (“USOA”). It provides the annual operating results of the carriers' activities for every account in the USOA. The Commission clarified in an Order on Reconsideration released March 8, 2002, that mid-sized LECs are not required to file the ARMIS FCC Report 43-02. (No. of respondents: 30; hours per response: 395 hours; total annual burden: 11,850).

FCC Report 43-05—The ARMIS 43-05 Report collects data at the study area level and holding company level and is designed to capture trends in service quality information in the areas of service quality under price cap regulation. It provides service quality information in the areas of interexchange access service installation and repair intervals, local service installation and repair intervals, trunk blockage and total switch downtime for price cap companies. (No. of respondents: 12; hours per response: 849; total annual burden: 10,196 hours, includes recordkeeping requirement).

FCC Report 43-07—The ARMIS 43-07 Report is designed to capture trends in telephone industry infrastructure development under price cap regulation. It provides switch deployment and capabilities data. (No. of respondents: 8; hours per response: 550 hours; total annual burden: 4400 hours). The information contained in these reports provides the necessary detail to enable this Commission to fulfill its regulatory responsibilities. Automated reporting of these data greatly enhances the Commission's ability to process and analyze the extensive amounts of data it needs to administer its rules. ARMIS facilitates the timely and efficient analysis of revenue requirements, rates of return and price caps, and provides an improved basis for auditing and other oversight functions. It also enhances the Commission's ability to quantify the effects of policy proposals. Obligation to respond: Mandatory.

OMB Control No.: 3060-0511.

Expiration Date: 09/30/2002.

Title: ARMIS Access Report.

Form No.: FCC Report 43-04.

Respondents: Business or other for-profit.

Estimated Annual Burden: 121 respondents; 157 hour per response (avg.); 18,997 total annual burden hours (for all collections under this control number).

Estimated Annual Reporting and Recordkeeping Cost Burden: $0.

Frequency of Response: Annually.

Description: Section 220 of the Communications Act of 1934, as amended, 47 USC 220, allows the Commission, at its discretion, to prescribe the forms of any and all accounts, records and memoranda to be kept by carriers subject to this Act, including the accounts, records and memoranda of the movement of traffic, as well as the receipts and expenditures of moneys. Sections 219(b) of the Communications Act of 1934, as amended, 47 USC 219(b), authorizes the Commission by general or special orders to require any carrier subject to this Act to file monthly reports of earnings and expenses and to file periodical and/or special reports concerning any matters with respect to which the Commission is authorized or required by law to act. Section 43.21 of the Commission's rules details that requirement. ARMIS was implemented to facilitate the timely and efficient analysis of revenue requirements, rates of return and price caps; to provide an improved basis for audits and other oversight functions; and to enhance the Commission's ability to quantify the effects of alternative policy. Section 11 of the Communications Act of 1934, as amended, 47 U.S.C. 161, requires the Commission, in every even-numbered year beginning in 1998, to review its regulations applicable to providers of telecommunications services to determine whether the regulations are no longer in the public interest due to meaningful economic competition between providers of such services and whether such regulations should be repealed or modified. Section 11 further instructs the Commission to repeal or modify any regulation it determines to be no longer in the public interest. The ARMIS 43-04 Report monitors revenue requirements, joint cost allocations, jurisdictional separations, and access charges. In the Report and Order, 2000 Biennial Regulatory Review—Comprehensive Review of the Accounting Requirements and ARMIS Reporting Requirements for Incumbent Local Exchange Carriers (LECs) and Amendments to the Uniform System of Accounts and Jurisdictional Separations Reform (R&O), released November 5, 2001, the Commission eliminated the requirement that mid-sized LECs file the FCC Report 43-04. (This was also clarified in an Order on Reconsideration released March 8, 2002). In addition the Commission revised the FCC Report 43-04 to reduce the data required to be reported during the interim freeze of certain jurisdictional cost categories and allocation factors prescribed in 47 CFR part 36. The information contained in this report provides the necessary detail to enable this Commission to fulfill its regulatory responsibilities. Automated reporting of these data greatly enhances the Commission's ability to process and analyze the extensive amounts of data it needs to administer its rules. ARMIS facilitates the timely and efficient analysis of revenue requirements, rates of return and price caps, and provides an improved basis for auditing and other oversight functions. It also enhances the Commission's ability to quantify the effects of policy proposals. Obligation to respond: Mandatory.

OMB Control No.: 3060-0513.

Expiration Date: 09/30/2002.

Title: ARMIS Joint Cost Report.

Form No.: FCC Report 43-03.

Respondents: Businesses or other for profit.

Estimated Annual Burden: 121 respondents; 83 hours per response (avg.); 10,043 total annual burden hours.

Estimated Annual Reporting and Recordkeeping Cost Burden: $0.

Frequency of Response: Annually.

Description: Section 220 of the Communications Act of 1934, as amended, 47 U.S.C. 220, allows the Commission, at its discretion, to prescribe the forms of any and all accounts, records and memoranda to be kept by carriers subject to this Act, including the accounts, records and memoranda of the movement of traffic, as well as the receipts and expenditures of moneys. Sections 219(b) of the Communications Act of 1934, as amended, 47 USC 219(b), authorizes the Commission by general or special orders to require any carrier subject to this Act to file monthly reports of earnings and expenses and to file periodical and/or special reports concerning any matters with respect to which the Commission is authorized or required by law to act. Section 43.21 of the Commission's rules details that requirement. ARMIS was implemented to facilitate the timely and efficient analysis of revenue requirements, rates of return and price caps; to provide an improved basis for audits and other oversight functions; and to enhance the Commission's ability to quantify the effects of alternative policy. Section 11 of the Communications Act of 1934, as amended, 47 U.S.C. 161, requires the Commission, in every even-numbered year beginning in 1998, to review its regulations applicable to providers of telecommunications services to determine whether the regulations are no longer in the public interest due to meaningful economic competition between providers of such services and whether such regulations should be repealed or modified. Section 11 further instructs the Commission to repeal or modify any regulation it determines to be no longer in the public interest. The ARMIS 43-03 Report is needed to administer the Commission's joint cost rules and to analyze data in order to prevent cross-subsidization of nonregulated operations by the regulated operations of Tier 1 carriers. In an Order on Reconsideration, released March 8, 2002, the Commission clarified that mid-sized carriers are not required to file FCC Report 43-03 on April 1, 2002. The information contained in this report provides the necessary detail to enable this Commission to fulfill its regulatory responsibilities. Automated reporting of these data greatly enhances the Commission's ability to process and analyze the extensive amounts of data it needs to administer its rules. ARMIS facilitates the timely and efficient analysis of revenue requirements, rates of return and price caps, and provides an improved basis for auditing and other oversight functions. It also enhances the Commission's ability to quantify the effects of policy proposals. Obligation to respond: Mandatory.

Public reporting burden for the collections of information are as noted above. Send comments regarding the burden estimates or any other aspect of the collections of information, including suggestions for reducing the burden to Performance Evaluation and Records Management, Washington, DC 20554.

Federal Communications Commission.
William F. Caton,
Acting Secretary.

[FR Doc. 02-8346 Filed 4-4-02; 8:45 am]

BILLING CODE 6712-01-P